DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for March 28-29, 2000, beginning at 8:30 a.m. on March 28. Arrange for oral presentations by March 23.

ADDRESSES: Renton, WA. You may contact the person identified under the heading FOR FURTHER INFORMATION CONTACT after March 21 for the exact location of the meeting.

FOR FURTHER INFORMATION CONTACT: Effie M. Upshaw, Office of Rulemaking, ARM-209, FAA, 800 Independence Avenue, SW., Washington, DC 20591, Telephone (202) 267-7626, FAX (202) 267-5075.

SUPPLEMENTARY INFORMATION: Pursuant to section 10(a)(2) of the Federal Advisory Committee Act (Pub. L. 92-463; 5 U.S.C. app. III), notice is given of an ARAC meeting ARAC meeting to be held March 28-29, 2000, in Renton, WA.

The agenda will include:

Tuesday, March 28, 2000

• Opening Remarks.

• FAA Report.

• Joint Aviation Authorities Report.

• Transport Canada Report.

• Executive Committee Meeting Report.

• Harmonization Management Team Report.

• Human Factors Harmonization Working Group (HWG) Report.

• Engine HWG Report and Vote.

• Flight Guidance System HWG Report.

• Systems Design and Analysis HWG Report.

• Ice Protection HWG Report.

• Powerplant Installation HWG Report and Vote.

• Seat Test HWG Report and Vote.

• Avionics System HWG Report and Vote.

• Design for Security HWG Report.

• Braking System HWG Report and vote.

Wednesday, March 29

• General Structures HWG Report and Vote.

• Airworthiness Assurance HWG Report.

• Flight Test Report and Vote.

• Electromagnetic Effects HWG Report and Vote.

• Loads & Dynamics HWG Report and Vote.

• Flight Control HWG Report.

• Mechanical Systems HWG Report and Vote.

• Electrical Systems HWG Report and Vote.

Ten HWG's-Engine, Powerplant Installation, Seat Test, Avionics Systems, General Structures, Flight Test, Electromagnetic Effects, Loads and Dynamics, Mechanical Systems, and Electrical Systems—plan to request approval of reports completed to address tasking statements.

Two HWG's-Braking Systems and Loads & Dynamics—plan to request a vote to submit dispositions of comments to the FAA. The Braking Systems HWG's request addresses comments relating to documents that were published in the Federal Register on August 10, 1999, on brakes and braking systems certification and analysis; the comment period closed November 8, 1999. The Loads and Dynamics HWG's request addresses comments relating to documents that were published in the Federal Register on June 18, 1999, on revised landing gear shock absorption test requirements; the comment period closed October 18, 1999.

The Engine HWG plans to request a vote for formal FAA legal and economic reviews for proposed rules addressing safety analysis and one-engine inoperative procedures.

Attendance is open to the public, but will be limited to the space available. The public must make arrangements by March 23 to present oral statements at the meeting. Written statements may be presented to the committee at any time by providing 25 copies to the Assistant Executive Director for Transport Airplane and Engine issues or by providing copies at the meeting. Copies of the documents to be voted upon may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC on March 10, 2000.
Anthony F. Fazio,
Executive Director, Aviation Rulemaking Advisory Committee.

[FR Doc. 00-6559 Filed 3-15-00; 8:45 am]

BILLING CODE 4910-13-M